DEPARTMENT OF HEALTH AND HUMAN SERVICES

Centers for Medicare & Medicaid Services

[Document Identifier: CMS-359, 360, R-55; CMS-368, R-144; and CMS-643]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Comprehensive Outpatient Rehabilitation Facility (CORF) Eligibility and Survey Forms and Information Collection Requirements at 42 CFR 485.56, 485.58, 485.60, 485.64, 485.66 and 410.105; Use: In order for a provider to participate in the Medicare program as a CORF, a provider must meet the Federal conditions of participation. The form CMS-359 is utilized as an application for facilities wishing to participate in the Medicare/Medicaid program as CORFs. This form initiates the process of obtaining a decision as to whether the conditions of participation are met. The form CMS-360 is an instrument used by the State survey agency to record data collected in order to determine the provider compliance with individual conditions of participation and to report it to the Federal government; Form Numbers: CMS-359, 360, R-55 (OMB#: 0938-0267); Frequency: Reporting—On occasion; Affected Public: State, Local, or Tribal government and Business or other for-profit; Number of Respondents: 630; Total Annual Responses: 630; Total Annual Hours: 300,046.

2. Type of Information Collection Request: Revision of a currently approved collection; Title of Information Collection: State Medicaid Drug Rebate; Use: Section 1927 of the Social Security Act requires each State Medicaid agency to report quarterly prescription drug utilization information to drug manufacturers and to the Centers for Medicare and Medicaid Services. As part of this information, the State Medicaid agencies are required to report the total Medicaid rebate amount they claim they are owed by each drug manufacturer for each covered prescription drug product each quarter; Form Numbers: CMS-368, R-144 (OMB#: 0938-0582); Frequency: Reporting—Quarterly; Affected Public: State, Local, or Tribal government; Number of Respondents: 51; Total Annual Responses: 204; Total Annual Hours: 9,389.

3. Type of Information Collection Request: Extension of a currently approved collection; Title of Information Collection: Hospice Survey and Deficiencies Report Form and Supporting Regulations at 42 CFR 442.30 and 488.26; Use: In order to participate in the Medicare program, a hospice must meet certain Federal health and safety conditions of participation. This form is used by State surveyors to record data about a hospice's compliance with these conditions of participation in order to initiate the certification or recertification process; Form Number: CMS-643 (OMB#: 0938-0379); Frequency: Reporting—Annually; Affected Public: Not-for-profit institutions and Business or other for-profit; Number of Respondents: 2,293; Total Annual Responses: 475; Total Annual Hours: 238.

To obtain copies of the supporting statement and any related forms for the proposed paperwork collections referenced above, access CMS' Web site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received at the address below, no later than 5 p.m. on April 11, 2006. CMS, Office of Strategic Operations and Regulatory Affairs, Division of Regulations Development—A, Attention: Melissa Musotto (CMS-359, 360, R-55; CMS-368, R-144; and CMS-643) Room C4-26-05, 7500 Security Boulevard, Baltimore, Maryland 21244-1850.

Dated: January 31, 2006.
Michelle Shortt,
Director, Regulations Development Group, Office of Strategic Operations and Regulatory Affairs.

[FR Doc. E6-1820 Filed 2-9-06; 8:45 am]

BILLING CODE 4120-01-P